ARCHITECTURAL AND TRANSPORTATION BARRIERS COMPLIANCE BOARD

[Docket No. ATBCB-2024-0002]

Agency Information Collection Activities; Submission of Renewed Generic Clearance for the Collection of Qualitative Feedback on Agency Service Delivery for OMB Review

AGENCY: Architectural and Transportation Barriers Compliance Board.

ACTION: 30-Day notice

SUMMARY: In accordance with the Paperwork Reduction Act of 1995 (PRA), the Architectural and Transportation Barriers Compliance Board (Access Board) has submitted to the Office of Management and Budget (OMB) a request for renewal of its existing generic clearance to continue to collect qualitative feedback on agency services and programs.

DATES: Send comments on or before May 16, 2024.

ADDRESSES: Written comments and recommendations for the proposed information collection should be sent within 30 days of publication of this notice to www.reginfo.gov/public/do/PRAMain. Find this particular information collection by selecting “Currently under Review —Open for Public Comments” or by using the search function.

FOR FURTHER INFORMATION CONTACT: Attorney Advisor Wendy Marshall, (202) 272-0043, marshall@access-board.gov.

SUPPLEMENTARY INFORMATION:

I. Background

Under the PRA and its implementing regulations (5 CFR part 1320), Federal agencies must obtain approval from OMB for each collection of information they conduct or sponsor (e.g., contractually-required information collection by a third-party). “Collection of information,” within the meaning of the PRA, includes agency requests that pose identical questions to, or impose reporting or recording keeping obligations on, ten or more persons, regardless of whether response to such request is mandatory or voluntary. See 5 CFR 1320.3(c); see also 44 U.S.C. 3502(3). In February 2024, the Access Board published a 60-day notice concerning the proposed renewal of its existing generic clearance for the collection of qualitative feedback, which expires on May 31, 2024. (OMB Control No. 3014-0011) 89 FR 8401 (Feb. 7, 2024). We received no comments in response to this 60-day notice.

II. Overview of Requested Generic Clearance Renewal

The Access Board is providing notice that it has requested OMB renewal of our existing generic clearance for the collection of qualitative feedback with regard to agency program and services. OMB approval is requested for three years. To date, we have found the feedback garnered through qualitative customer satisfaction surveys (and similar information collections) to be beneficial, by providing useful insights in experiences, perceptions, opinions, and expectations regarding Access Board services or focusing attention on areas in need of improvement. We are seeking approval to continue our current efforts to solicit qualitative feedback from customers across our agency programs and services. Online surveys will be used unless the customer contacts the agency by phone for technical assistance or an individual otherwise expresses a preference for another survey format (i.e., fillable form in portable document format or paper survey). In addition, paper surveys may be used to garner feedback from participants at in-person trainings or similar events. Provided below is an overview of the existing generic clearance for which the Access Board seeks renewal.

OMB Control Number: 3014-0011.

Title: Generic Clearance for the Collection of Qualitative Feedback on Agency Service Delivery.

Type of Request: Extension without change.

Abstract: The proposed information collection activity facilitates collection of qualitative customer and stakeholder feedback in an efficient, timely manner, in accordance with the Federal Government's commitment to improving service delivery. By qualitative feedback we mean information collections that provide useful insights on perceptions and opinions but are not statistical surveys that yield quantitative results that can be generalized to the population of study. This feedback will provide insight into customer or stakeholder perceptions, experiences and expectations, provide an early warning of issues with service, or focus attention on areas where communication, training, or changes in operations might improve delivery of services. These collections will allow for ongoing, collaborative, and actionable communications between the Access Board and its customers and stakeholders.

Respondents/Affected Public: Individuals and households; businesses and organizations; State, local or Tribal government.

Burden Estimates: In the table below (table 1), the Access Board provides estimates for the annual reporting burden under this proposed information collection. The Access Board does not anticipate incurring any capital or other direct costs associated with this information collection. Nor will there be any costs to respondents, other than their time.

Table 1—Estimated Annual Burden Hours
Type of collection | Number of respondents | Frequency of response (per year) | Average response time (mins.) | Total burden (hours)
Customer feedback surveys | 3,870 | 1 | 4 | 258
(Note: Total burden hours per collection rounded to the nearest full hour.)

Request for Comment: The Access Board seeks comment on any aspect of the proposed renewal of its existing generic clearance for the collection of qualitative feedback on agency service delivery, including (a) whether the proposed collection of information is necessary for the Access Board's performance; (b) the accuracy of the estimated burden; (c) ways for the Access Board to enhance the quality, utility, and clarity of the information collection; and (d) ways that the burden could be minimized without reducing the quality of the collected information. Comments will be summarized and included in our request for OMB's approval of renewal of our existing generic clearance.

Christopher Kuczynski,
General Counsel.

[FR Doc. 2024-07928 Filed 4-15-24; 8:45 am]

BILLING CODE 8150-01-P